DEPARTMENT OF STATE

[Public Notice: 12444]

Meeting of the United States-Republic of Korea Environmental Affairs Council and Environmental Cooperation Commission

ACTION: Notice of meetings and request for comments or questions.

SUMMARY: The U.S. Department of State and the Office of the United States Trade Representative (USTR) are providing notice that the United States and the Republic of Korea (ROK) intend to hold the fourth meetings of the Environmental Affairs Council (EAC) and Environmental Cooperation Commission (ECC) in Seoul, ROK on July 11 and 12, 2024. The purposes of the meetings, respectively, are to review implementation of the Environment Chapter (Chapter 20) of the U.S.-Korea Free Trade Agreement (FTA) and to review cooperative environmental activities undertaken under the United States—Republic of Korea Environmental Cooperation Agreement (ECA).

DATES: The EAC and ECC meetings will be held on July 11, 2024, in Seoul, ROK. A joint public session will also be held in Seoul on July 12, 2024. Written comments or questions related to these meetings should be submitted no later than July 10, 2024, for consideration. Instructions on submitting questions or comments are under the heading ADDRESSES.

ADDRESSES: Written comments or questions should use “United States-Republic of Korea EAC/ECC Meetings” as the subject line and be submitted to both:

(1) Merideth Manella, U.S. Department of State, Bureau of Oceans and International Environmental and Scientific Affairs, Office of Environmental Quality, by email to ManellaM@state.gov and (2) Timothy Wedding, Office of Environment and Natural Resources, Office of the United States Trade Representative, by email to twedding@ustr.eop.gov.

When preparing comments, submitters are encouraged to refer to Chapter 20 (Environment) of the FTA and/or the ECA, as relevant (available at https://ustr.gov/sites/default/files/uploads/agreements/fta/korus/asset_upload_file852_12719.pdf and https://2009-2017.state.gov/documents/organization/182922.pdf).

In your email, please include your full name and organization.

If you have access to the internet, you can view and comment on this notice by going to: http://www.regulations.gov/#!home and searching for docket number DOS-2024-0020.

FOR FURTHER INFORMATION CONTACT: Merideth Manella, (202) 286-5271, ManellaM@state.gov or Timothy Wedding, (202) 395-6072, twedding@ustr.eop.gov.

SUPPLEMENTARY INFORMATION: Article 20.6.1 of the United States-Korea FTA establishes an Environmental Affairs Council (EAC), which oversees implementation of the Environment Chapter (Chapter 20). The United States and the Republic of Korea, collectively the Parties, established the Environmental Cooperation Commission (ECC) on January 23, 2012, when they signed the Environmental Cooperation Agreement (ECA), which was negotiated in concert with the FTA. In Articles 3 and 4 of the ECA, the Parties state they plan to meet to develop and update, as appropriate, a Work Program of Environmental Cooperation to identify environmental cooperation priorities and possibilities for future cooperation.

During the closed government-to-government EAC and ECC meetings on July 11, 2024, in Seoul, ROK, the Parties will discuss their respective implementation of the Environment Chapter (Chapter 20) of the United States-Korea FTA and review activity under the 2019-2022 and 2023-2026 Work Programs under the ECA.

On July 12, 2024, the Parties will host a joint public session on Environment Chapter (Chapter 20) implementation and environmental cooperation under the ECA in Seoul. Interested persons are invited to submit questions, input, and information for consideration for both the closed and public sessions. Instructions on submitting questions or comments are under the heading ADDRESSES.

Visit the Department of State website at www.state.gov and the USTR website at www.ustr.gov for more information.

Andrew D. Clark,
Acting Director, Office of Environmental Quality, Department of State.

[FR Doc. 2024-14866 Filed 7-5-24; 8:45 am]

BILLING CODE 4710-09-P